DEPARTMENT OF HEALTH AND HUMAN SERVICES

National Institutes of Health

Center for Scientific Review; Cancellation of Meeting

Notice is hereby given of the cancellation of the Center for Scientific Review Special Emphasis Panel, September 29, 2005, 8:30 a.m. to September 30, 2005, 5 p.m., The Watergate, 2650 Virginia Avenue, NW., Washington, DC 20037 which was published in the Federal Register on August 24, 2005, 70 FR 49663-49664.

The meeting is cancelled due to the reassignment of the applications.

Dated: September 13, 2005.
Anthony M. Coelho, Jr.,
Acting Director, Office of Federal Advisory Committee Policy.

[FR Doc. 05-18860 Filed 9-20-05; 8:45 am]

BILLING CODE 4140-01-M